COMMITTEE FOR THE IMPLEMENTATION OF TEXTILE AGREEMENTS

Determination Under the Textile and Apparel Commercial Availability Provision of the Dominican Republic-Central America-United States Free Trade Agreement (“CAFTA-DR Agreement”)

AGENCY: The Committee for the Implementation of Textile Agreements.

ACTION: Determination to add a product in unrestricted quantities to Annex 3.25 of the CAFTA-DR Agreement.

DATES: Effective Date: March 18, 2013.

SUMMARY: The Committee for the Implementation of Textile Agreements (“CITA”) has determined that certain laminated composite fabric, as specified below, is not available in commercial quantities in a timely manner in the CAFTA-DR countries. The product will be added to the list in Annex 3.25 of the CAFTA-DR Agreement in unrestricted quantities.

FOR FURTHER INFORMATION CONTACT: Maria Dybczak, Office of Textiles and Apparel, U.S. Department of Commerce, (202) 482-3651.

For Further Information On-Line: http://web.ita.doc.gov/tacgi/CaftaReqTrack.nsf under “Approved Requests,” Reference number: 176.2013.02.06.Fabric.SoriniSametforPatagoniaInc.

SUPPLEMENTARY INFORMATION:

Authority: The CAFTA-DR Agreement; Section 203(o)(4) of the Dominican Republic-Central America-United States Free Trade Agreement Implementation Act (“CAFTA-DR Implementation Act”), Public Law 109-53; the Statement of Administrative Action, accompanying the CAFTA-DR Implementation Act; and Presidential Proclamations 7987 (February 28, 2006) and 7996 (March 31, 2006).

Background

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25 of the CAFTA-DR Agreement; see also section 203(o)(4)(C) of the CAFTA-DR Implementation Act.

The CAFTA-DR Implementation Act requires the President to establish procedures governing the submission of a request and providing opportunity for interested entities to submit comments and supporting evidence before a commercial availability determination is made. In Presidential Proclamations 7987 and 7996, the President delegated to CITA the authority under section 203(o)(4) of CAFTA-DR Implementation Act for modifying the Annex 3.25 list. Pursuant to this authority, on September 15, 2008, CITA published modified procedures it would follow in considering requests to modify the Annex 3.25 list of products determined to be not commercially available in the territory of any Party to CAFTA-DR (Modifications to Procedures for Considering Requests Under the Commercial Availability Provision of the Dominican Republic-Central America-United States Free Trade Agreement, 73 FR 53200) (“CITA's procedures”).

On February 6, 2013, the Chairman of CITA received a request for a Commercial Availability determination (“Request”) from Sorini Samet & Associates on behalf of Patagonia, Inc. for certain laminated composite fabric, as specified below. On February 7, 2013, in accordance with CITA's procedures, CITA notified interested parties of the Request, which was posted on the dedicated Web site for CAFTA-DR Commercial Availability proceedings. In its notification, CITA advised that any Response with an Offer to Supply (“Response”) must be submitted by February 21, 2013, and any Rebuttal Comments to a Response must be submitted by February 27, 2013, in accordance with sections 6 and 7 of CITA's procedures. No interested entity submitted a Response to the Request advising CITA of its objection to the Request and its ability to supply the subject product.

In accordance with section 203(o)(4)(C) of the CAFTA-DR Implementation Act, and section 8(c)(2) of CITA's procedures, as no interested entity submitted a Response objecting to the Request and providing an offer to supply the subject product, CITA has determined to add the specified fabric to the list in Annex 3.25 of the CAFTA-DR Agreement.

The subject product has been added to the list in Annex 3.25 of the CAFTA-DR Agreement in unrestricted quantities. A revised list has been posted on the dedicated Web site for CAFTA-DR Commercial Availability proceedings.

SPECIFICATIONS: Laminated Composite Fabric

HTS: 6001.22.0000; 6001.92.0000

Overall Fabric Description: Laminated polyester woven/micro velour grid one-way stretch with polyurethane laminate.

Overall Fabric Construction: Woven face/polyurethane laminate/circular knit velour with grid pattern.

Overall Fiber Content: 90-96% polyester/4-10% spandex (includes both face and backer fabric).

Overall weight: 287-351 grams per square meter.

Overall width: Selvedge: 150.4-154.4 cm; Minimum cuttable: 145.3-149.3 cm.

Finishing: Bonded laminate with durable water repellency on the face fabric, and optional on back.

Performance criteria for overall fabric:

Air permeability (ASTM D737): maximum 1.5

Durable water repellency (AATCC 22): greater than or equal to 80 before wash.

Face Fabric Details:

Construction: plain weave

Fiber content: 81-87% polyester/13-19% spandex

Warp fiber content/denier: 73-77 denier polyester; 39-41 denier spandex

Filling fiber content/denier: 73-77 denier polyester; 39-41 denier spandex

Characteristics of yarns: core spun spandex (filament)

Thread count: 49-52 picks per cm × 43-45 picks per cm

Weight: 121.5-148.5 grams per square meter

Width: Selvedge: 150.4-154.4 cm; Minimum cuttable: 145.3-149.3 cm

Coloration: piece dyed

Finishing: bonded laminate with durable water repellency

Other special characteristics: 2-way stretch

Backer Fabric Details:

Construction: circular knit with a dropped stitch for the grid-brushed looped pile

Fiber content: 100% polyester

Warp fiber content/denier: 145-155 denier polyester

Filling fiber content/denier: 73-77 denier polyester

Characteristics of yarns: filament

Knitting gauge: 27-29

Weight: 140.4-171.6 grams per square meter

Width: Selvedge: 150.4-154.4 cm; Minimum cuttable: 145.3-149.3 cm

Coloration: piece dyed

Finishing: Optional bonded laminate with durable water repellency

Performance criteria:

Pilling (ASTM D3512): minimum 3

Other special characteristics: grid pattern

Laminate Description and performance: Bonded laminate with durable water repellency (air permeability maximum 1.5 per ASTM D737)

NOTE (ranges): Ranges in these specifications reflect a tolerance from the target figures of up to three percent for fiber content, yarn size, and thread count; up to ten percent for weight; and up to five centimeters (two inches) for width.

NOTE (processing variations): The yarn size designations describe a range of yarn specifications for yarn before knitting, dyeing and finishing of the fabric. They are intended as specifications to be followed by the mill in sourcing yarn used to produce the fabric. Dyeing, finishing, and knitting can alter the characteristic of the yarn as it appears in the finished fabric. These specifications therefore include yarns appearing in the finished fabric as finer or coarser than the designated yarn sizes provided that the variation occurs after processing of the greige yarn and production of the fabric. The specifications for the fabric apply to the fabric itself prior to cutting and sewing of the finished garment. Such processing may alter the measurements.

Kim Glas,
Chairman, Committee for the Implementation of Textile Agreements.

[FR Doc. 2013-06181 Filed 3-15-13; 8:45 am]

BILLING CODE 3510-DS-P